DEPARTMENT OF LABOR

Mine Safety and Health Administration

30 CFR Parts 48, 50, and 75

RIN 1219-AB46

Emergency Mine Evacuation

AGENCY: Mine Safety and Health Administration, Labor.

ACTION: Change of hearing date.

SUMMARY: MSHA is rescheduling the date of a public hearing announced in the March 9, 2006 Emergency Temporary Standard on Emergency Mine Evacuation (71 FR 12252). The April 11, 2006 public hearing is rescheduled for May 9, 2006.

FOR FURTHER INFORMATION CONTACT: Robert Stone, Acting Director; Office of Standards, Regulations, and Variances, MSHA; phone: (202) 693-9440; facsimile: (202) 693-9441; E-mail: Stone.Robert@dol.gov.

SUPPLEMENTARY INFORMATION:

I. Public Hearings

One of the hearing dates announced in the preamble of the Emergency Temporary Standard conflicts with the United Mine Workers of America (UMWA) Constitutional Convention that is scheduled for the second week of April. Following a request from the UMWA, the hearing in Charleston, WV has been changed from April 11, 2006 to May 9, 2006.

For the convenience of the reader, the following table contains information on the hearing dates, locations, and phone numbers for all of the hearings for the Emergency Temporary Standard on Emergency Mine Evacuation.

Date | Location | Phone
April 24, 2006 | Sheraton Denver West Hotel, 360 Union Boulevard, Lakewood, CO 80228 | 303-987-2000
April 26, 2006 | Sheraton Suites, 2601 Richmond Road, Lexington, KY 40506 | 859-268-0060
April 28, 2006 | MSHA Conference Room, 25th Floor, 1100 Wilson Boulevard, Arlington, VA 22209 | 202-693-9440
May 9, 2006 | Marriott Town Center, 200 Lee Street, East, Charleston, WV 25301 | 304-345-6500

Dated: March 20, 2006.
David G. Dye,
Acting Assistant Secretary for Mine Safety and Health.

[FR Doc. 06-2907 Filed 3-24-06; 8:45 am]

BILLING CODE 4510-43-P